DEPARTMENT OF THE INTERIOR

Geological Survey

Request for Public Comments on Information Collection To Be Submitted to OMB for Review Under the Paperwork Reduction Act

A request to reinstate the information collection described below will be submitted to the Office of Management and Budget for approval under the provisions of the Paperwork Reduction Act (44 U.S.C. chapter 35). Copies of the proposed collection of information may be obtained by contacting the Bureau clearance officer at the phone number listed below. Comments and suggestions on the proposal should be made within 60 days directly to the Bureau clearance officer, U.S. Geological Survey, 807 National Center, 12201 Sunrise Valley Drive, Reston, Virginia 20192, telephone (703) 648-7313.

As required by OMB regulations at 5 CFR 1320.8(d)(1), the U.S. Geological Survey solicits specific public comments as to:

1. Whether the collection of information is necessary for the proper performance of the functions on the bureaus, including whether the information will have practical utility;

2. The accuracy of the Bureau estimate of the burden of the collection of information, including the validity of the methodology and assumptions used;

3. The quality, utility, and clarity of the information to be collected; and

4. How to minimize the burden of the collection of information on those who are to respond, including the use of appropriate, electronic, mechanical, or other forms of information technology.

Title: North American Bird Banding Program—Application for Federal Bird Banding Permit.

Previous OMB Approval Number: 1018-0017.

Summary: In accordance with the Migratory Bird Treaty Act and subsequent treaties with other countries, the trapping and marking of wild migratory birds must be monitored. To accomplish this mandate, federal permits are required to trap and mark. The permit is required for persons who trap and mark for research or management purposes. Responsibility to evaluate applications and issue permits is the responsibility of the USGS Bird Banding Laboratory. The application provides information about the applicant that is necessary to assess and evaluate qualifications of the applicant. For further information on the North American Bird Banding Program, see our Web site (http://www.pwrc.usgs.gov/bbl).

Estimated Annual Number of Respondents: 550.

Estimated Annual Burden Hours: 550.

Affected Public: Mostly U.S. citizens from the public and private sectors with a few from Canada, the Caribbean, Central America and South America. Permits to band in Canada are handled by the Canadian Wildlife Service, Bird Banding Office.

For Further Information Contact: To obtain copies of the survey, contact the Bureau clearance officer, U.S. Geological Survey, 807 National Center, 12201 Sunrise Valley Drive, Reston, Virginia 20192, telephone (703) 648-7313 or see the Web site at http://www.pwrc.usgs.gov/bbl.

Dated: August 11, 2003.
Ken Williams,
Acting Associate Director for Biology.

[FR Doc. 03-21432 Filed 8-20-03; 8:45 am]

BILLING CODE 4310-Y7-M